DEPARTMENT OF HOMELAND SECURITY

Federal Emergency Management Agency

[Docket ID FEMA-2012-0003; Internal Agency Docket No. FEMA-B-1274]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Alabama: Mobile | Unincorporated areas of Mobile County, (12-04-0828P) | The Honorable Connie Hudson, President, Mobile County Commission, P.O. Box 1443, Mobile, AL 36633 | Mobile County Government Plaza, Engineering Department, 205 Government Street, 3rd Floor, South Tower, Mobile, AL 36644 | http://www.bakeraecom.com/index.php/alabama/mobile/ | November 23, 2012 | 015008
Arizona:
Maricopa | City of Phoenix, (12-09-0762P) | The Honorable Greg Stanton, Mayor, City of Phoenix, 200 West Washington Street, 11th Floor, Phoenix, AZ 85003 | Transportation Department, 200 West Washington Street, 5th Floor, Phoenix, AZ 85003 | http://www.r9map.org/Docs/12-09-0762P-040051-102IAC.pdf | November 9, 2012 | 040051
Maricopa | City of Tempe, (12-09-0762P) | The Honorable Hugh Hallman, Mayor, City of Tempe, City Hall Municipal Complex, 31 East 5th Street, Tempe, AZ 85281 | City Hall, Engineering Department, 31 East 5th Street, Tempe, AZ 85281 | http://www.r9map;.org/Docs/12-09-0762P-040054-102IAC.pdf | November 9, 2012 | 040054
Pinal | City of Coolidge, (12-09-0751P) | The Honorable Thomas Shope, Mayor, City of Coolidge, P. O. Box 1627, Coolidge, AZ 85128 | 130 West Central Avenue, Coolidge, AZ 85228 | http://www.r9map.org/Docs/12-09-0751P-040082-102IAC.pdf | November 26, 2012 | 040082
Pinal | Unincorporated areas of Pinal County, (12-09-0751P) | The Honorable David Snider, Chairman, Pinal County Board of Supervisors, P. O. Box 827, Florence, AZ 85132 | Pinal County, Engineering Department, 31 North Pinal Street, Building F, Florence, AZ 85232 | http://www.r9map.org/Docs/12-09-0751P-040077-102IAC.pdf | November 26, 2012 | 040077
Arkansas:
Benton | City of Centerton, (12-06-2356P) | The Honorable Bill Edwards, Mayor, City of Centerton, P.O. Box 208, Centerton, AR 72719 | City Hall, 290 Main Street, Centerton, AR 72719 | http://www.rampp-team.com/lomrs.htm | December 6, 2012 | 050399
Faulkner | City of Vilonia, (12-06-1423P) | The Honorable James Firestone, Mayor, City of Vilonia, P.O. Box 188, Vilonia, AR 72173 | City Hall, 1113 Main Street, Vilonia, AR 72173 | http://www.rampp-team.com/lomrs.htm | December 6, 2012 | 050417
California:
Mendocino | Unincorporated areas of Mendocino County, (12-09-1922P) | The Honorable John McCowen, Chairman, Mendocino County Board of Supervisors, 501 Low Gap Road, Ukiah, CA 95482 | Mendocino County Planning Department, 501 Low Gap Road, Ukiah, CA 95482 | http://www.r9map.org/Docs/12-09-1922P-060183-102IAC.pdf | December 3, 2012 | 060183
Santa Clara | Unincorporated areas of Santa Clara County, (12-09-0752P) | The Honorable George Shirakawa, President, Santa Clara County Board of Supervisors, 70 West Hedding Street, 10th Floor, East Wing, San Jose, CA 95110 | Santa Clara County Planning Department, 70 West Hedding Street, San Jose, CA 95110 | http://www.r9map.org/Docs/12-09-0752P-060337-102IAC.pdf | September 13, 2012 | 060337
Colorado:
Adams | City of Thornton, (12-08-0500P) | The Honorable Heidi Williams, Mayor, City of Thornton, 9500 Civic Center Drive, Thornton, CO 80229 | 9500 Civic Center Drive, Thornton, CO 80229 | http://www.bakeraecom.com/index.php/colorado/adams/ | November 2, 2012 | 080007
Adams | Unincorporated areas of Adams County, (12-08-0500P) | The Honorable W. R. “Skip” Fischer, Chairman, Adams County Board of Commissioners, 4430 South Adams County Parkway, 5th Floor, Suite C5000A, Brighton, CO 80601 | Adams County Public Works Department/Engineering Section, 4430 South Adams County Parkway, 1st Floor, Suite W2123, Brighton, CO 80601 | http://www.bakeraecom.com/index.php/colorado/adams/ | November 2, 2012 | 080001
Jefferson | City of Westminster, (12-08-0500P) | The Honorable Nancy McNally, Mayor, City of Westminster, 4800 West 92nd Avenue, Westminster, CO 80031 | 4800 West 92nd Avenue, Westminster, CO 80031 | http://www.bakeraecom.com/;index.php/colorado/adams/ | November 2, 2012 | 080008
La Plata | City of Durango, (12-08-0287P) | The Honorable Doug Lyon, Mayor, City of Durango, 949 East 2nd Avenue, Durango, CO 81301 | Administrative Offices, 949 East 2nd Avenue, Durango, CO 81301 | http://www.bakeraecom.com/index.php/colorado/la plata/ | November 26, 2012 | 080099
Weld | Unincorporated areas of Weld County, (12-08-0303P) | The Honorable Sean Conway, Chairman, Weld County Board of Commissioners, P. O. Box 758, Greeley, CO 80632 | Weld County Public Works Department, 1111 H Street, Greely, CO 80632 | http://www.bakeraecom.com/index.php/colorado/weld/ | November 9, 2012 | 080266
Florida:
Broward | City of Pompano Beach, (12-04-3737P) | The Honorable Lamar Fisher, Mayor, City of Pompano Beach, 100 West Atlantic Boulevard, Pompano Beach, FL 33060 | City Hall, Building Department, 100 West Atlantic Boulevard, 3rd Floor, West Wing, Pompano Beach, FL 33060 | http://www.bakeraecom.com/index.php/florida/broward/ | November 9, 2012 | 120055
Charlotte | Unincorporated areas of Charlotte County, (12-04-1172P) | The Honorable Christopher Constance, Chairman, Charlotte County Board of Commissioners, 18500 Murdock Circle, Port Charlotte, FL 33948 | Charlotte County Community Development Department, 18500 Murdock Circle, Port Charlotte, FL 33948 | http://www.bakeraecom.com/index.php/florida/charlotte/ | November 12, 2012 | 120061
Lee | City of Fort Myers, (12-04-4033P) | The Honorable Randy Henderson, Jr., Mayor, City of Fort Myers, 2200 2nd Street, Fort Myers, FL 33901 | Community Development Department, 1825 Hendry Street, Fort Myers, FL 33901 | http://www.bakeraecom.com/index.php/florida/lee-5/ | December 10, 2012 | 125106
Monroe | Unincorporated areas of Monroe County, (12-04-3601P) | The Honorable David Rice, Mayor, Monroe County, 1100 Simonton Street, Key West, FL 33040 | Monroe County Building Department, 2798 Overseas Highway, Marathon, FL 33050 | http://www.bakeraecom.com/index.php/florida/monroe-3/ | December 3, 2012 | 125129
Monroe | Unincorporated areas of Monroe County, (12-04-4205P) | The Honorable David Rice, Mayor, Monroe County, 1100 Simonton Street, Key West, FL 33040 | Monroe County Building Department, 2798 Overseas Highway, Marathon, FL 33050 | http://www.bakeraecom.com/index.php/florida/monroe-3/ | November 12, 2012 | 125129
Nassau | Unincorporated areas of Nassau County, (12-04-3609P) | The Honorable Daniel B. Leeper, Chairman, Nassau County Board of Commissioners, 96135 Nassau Place, Suite 1, Yulee, FL 32097 | 96135 Nassau Place, Yulee, FL 32097 | http://www.bakeraecom.com/index.php/florida/nassau | December 20, 2012 | 120170
Sumter | Unincorporated areas of Sumter County, (12-04-2558P) | The Honorable Garry Breeden, Chairman, Sumter County Board of Commissioners, 7375 Powell Road, Wildwood, FL 34785 | Sumter County Planning Department, 7375 Powell Road, Wildwood, FL 34785 | http://www.bakeraecom.com/index.php/florida/sumter-2/ | November 23, 2012 | 120296
Georgia:
Fulton | City of Alpharetta, (11-04-5468P) | The Honorable David Belle Isle, Mayor, City of Alpharetta, 2 South Main Street, Alpharetta, GA 30009 | 1790 Hembree Road, Alpharetta, GA 30009 | http://www.bakeraecom.com/index.php/georgia/fulton/ | November 23, 2012 | 130084
Muscogee | City of Columbus—Muscogee County (Consolidated Government), (12-04-1647P) | The Honorable Teresa Tomlinson, Mayor, City of Columbus—Muscogee County (Consolidated Government), 100 10th Street, Columbus, GA 31901 | 420 10th Street, 2nd Floor, Columbus, GA 31901 | http://www.bakeraecom.com/index.php/georgia/muskogee/ | November 12, 2012 | 135158
Hawaii:
Honolulu | City and County of Honolulu, (12-09-1556P) | The Honorable Peter B. Carlisle, Mayor, City and County of Honolulu, 530 South King Street, Room 300, Honolulu, HI 96813 | Department of Planning and Permitting, 650 South King Street, Honolulu, HI 96813 | http://www.r9map.org/Docs/12-09-1556P-150001-102IAC.pdf | November 12, 2012 | 150001
Minnesota: Hennepin | City of Crystal, (12-05-1144P) | The Honorable ReNae Bowman, Mayor, City of Crystal, 4141 Douglas Drive North, Crystal, MN 55422 | City Hall, 4141 Douglas Drive North, Crystal, MN 55422 | http://www.starr-team.com/starr/LOMR/Pages/RegionV.aspx | December 24, 2012 | 270156
Nevada:
Clark | Unincorporated areas of Clark County, (11-09-4118P) | The Honorable Susan Brager, Chair, Clark County Board of Commissioners, 500 South Grand Central Parkway, Las Vegas, NV 89155 | Clark County Department of Public Works, 500 South Grand Central Parkway, Las Vegas, NV 89155 | http://www.r9map.org/Docs/11-09-4118P-320003-102IAC.pdf | December 3, 2012 | 320003
Clark | Unincorporated areas of Clark County, (12-09-0822P) | The Honorable Susan Brager, Chair, Clark County Board of Commissioners, 500 South Grand Central Parkway, Las Vegas, NV 89155 | Clark County Department of Public Works, 500 South Grand Central Parkway, Las Vegas, NV 89155 | http://www.r9map.org/Docs/12-09-0822P-320003-102IAC.pdf | November 5, 2012 | 320003
Clark | Unincorporated areas of Clark County, (12-09-0994P) | The Honorable Susan Brager, Chair, Clark County Board of Commissioners, 500 South Grand Central Parkway, Las Vegas, NV 89155 | Clark County Department of Public Works, 500 South Grand Central Parkway, Las Vegas, NV 89155 | http://www.r9map.org/Docs/12-09-0994P-320003-102DA.pdf | November 2, 2012 | 320003
Douglas | Unincorporated areas of Douglas County, (12-09-1513P) | The Honorable Lee Bonner, Chairman, Douglas County Board of Commissioners, P. O. Box 218, Minden, NV 89243 | Douglas County Public Works Department, 1615 8th Street, Minden, NV 89423 | http://www.r9map.org/Docs/12-09-1513P-320008-102IAC.pdf | October 22, 2012 | 320008
New Mexico: Bernalillo | City of Albuquerque, (12-06-1889P) | The Honorable Richard J. Berry, Mayor, City of Albuquerque, P.O. Box 1293, Albuquerque, NM 87103 | Development and Building Services Division, 600 2nd Street Northwest, Suite 201, Albuquerque, NM 87102 | http://www.rampp-team.com/lomrs.htm | November 29, 2012 | 350002
New York: Westchester | Village of Mamaroneck, (10-02-1072P) | The Honorable Norman S. Rosenblum, Mayor, Village of Mamaroneck, 123 Mamaroneck Avenue, Mamaroneck, NY 10543 | Building Department, 169 Mount Pleasant Avenue, 3rd Floor, Mamaroneck, NY 10543 | http://www.rampp-team.com/lomrs.htm | December 19, 2012 | 360916
North Carolina:
Durham | Unincorporated areas of Durham County, (11-04-0938P) | Mr. Mike Ruffin, Durham County Manager, 200 East Main Street, Durham, NC 27701 | Durham County Stormwater Services Division, 101 City Hall Plaza, Durham, NC 27701 | http://www.ncfloodmaps.com/fhd.htm | November 9, 2012 | 370085
Stanly | Unincorporated areas of Stanly County, (12-04-0850P) | Mr. Andy Lucas, Stanly County Manager, 1000 North 1st Street, Albemarle, NC 28001 | Stanly County Planning and Zoning Department, 1000 North 1st Street, Albemarle, NC 28001 | http://www.ncfloodmaps.com/fhd.htm | November 9, 2012 | 370361
Wake | Town of Fuquay-Varina, (11-04-7980P) | The Honorable John W. Byrne, Mayor, Town of Fuquay-Varina, 401 Old Honeycutt Road, Fuquay-Varina, NC 27526 | Engineering Department, 401 Old Honeycutt Road, Fuquay-Varina, NC 27526 | http://www.ncfloodmaps.com/fhd.htm | December 13, 2012 | 370239
Oklahoma: Creek | Town of Kiefer, (12-06-0981P) | The Honorable West Ashford, Mayor, Town of Kiefer, P.O. Box 369, Kiefer, OK 74041 | City Hall, 401 East Indiana Avenue, Kiefer, OK 74041 | http://www.rampp-team.com/lomrs.htm | December 24, 2012 | 400393
Pennsylvania: Dauphin | Township of Susquehanna, (12-03-0513P) | The Honorable Frank Lynch, President, Township of Susquehanna Board of Commissioners, 1900 Linglestown Road, Harrisburg, PA 17110 | Susquehanna Township, 1900 Linglestown Road, Harrisburg, PA 17110 | http://www.rampp-team.com/lomrs.htm | December 24, 2012 | 420397
South Carolina: Horry | City of Myrtle Beach, (12-04-2445P) | The Honorable John Rhodes, Mayor, City of Myrtle Beach, P. O. Box 2468, Myrtle Beach, SC 29578 | City Services Building, 921 Oak Street, Myrtle Beach, SC 29577 | http://www.bakeraecom.com/index.php/southcarolina/horry/ | November 13, 2012 | 450109
Tennessee: Williamson | City of Brentwood, (12-04-1585P) | The Honorable Paul L. Webb, Mayor, City of Brentwood, P.O. Box 788, Brentwood, TN 37024 | City Hall, 5211 Maryland Way, Brentwood, TN 37027 | http://www.bakeraecom.com/index.php/tennessee/williamson/ | November 12, 2012 | 470205
Texas:
Bexar | City of San Antonio, (12-06-0886P) | The Honorable Julian Castro, Mayor, City of San Antonio, 100 Military Plaza, San Antonio, TX 78205 | Municipal Plaza, 114 West Commerce Street, 7th Floor, San Antonio, TX 78205 | http://www.rampp-team.com/lomrs.htm | December 6, 2012 | 480045
Bexar | City of San Antonio, (12-06-0595P) | The Honorable Julian Castro, Mayor, City of San Antonio, 100 Military Plaza, San Antonio, TX 78205 | Municipal Plaza, 114 West Commerce Street, 7th Floor, San Antonio, TX 78205 | http://www.rampp-team.com/lomrs.htm | December 13, 2012 | 480045
Bexar | Unincorporated areas of Bexar County, (12-06-1452P) | The Honorable Nelson W. Wolff, Bexar County Judge, Paul Elizondo Tower, 101 West Nueva Street, 10th Floor, San Antonio, TX 78205 | Public Works Department, 233 North Pecos, La Trinidad, Suite 420, San Antonio, TX 78207 | http://www.rampp-team.com/lomrs.htm | December 6, 2012 | 480035
Collin | City of McKinney, (11-06-4743P) | The Honorable Brian Loughmiller, Mayor, City of McKinney, 222 North Tennessee Street, McKinney, TX 75069 | City Hall, 222 North Tennessee Street, McKinney, TX 75069 | http://www.rampp-team.com/lomrs.htm | December 21, 2012 | 480135
Collin | City of Weston, (11-06-4743P) | The Honorable Patti Harrington, Mayor, City of Weston, 301 Main Street, Weston, TX 75097 | City Hall, 210 South McDonald Street, McKinney, TX 75069 | http://www.rampp-team.com/lomrs.htm | December 21, 2012 | 481324
Collin | Unincorporated areas of Collin County, (11-06-4743P) | The Honorable Keith Self, Collin County Judge, 2300 Bloomdale Road, Suite 4192, McKinney, TX 75071 | Collin County Department of Public Works, 210 South McDonald Street, McKinney, TX 75069 | http://www.rampp-team.com/lomrs.htm | December 21, 2012 | 480130
Dallas | City of Coppell, (11-06-4512P) | The Honorable Karen Hunt, Mayor, City of Coppell, 255 Parkway Boulevard, Coppell, TX 75019 | City Engineering Department, 255 Parkway Boulevard, Coppell, TX 75019 | http://www.rampp-team.com/lomrs.htm | December 10, 2012 | 480170
Dallas and Denton | City of Lewisville, (11-06-4512P) | The Honorable Dean Ueckert, Mayor, City of Lewisville, 151 West Church Street, Lewisville, TX 75029 | City Hall, 1197 West Main Street, Lewisville, TX 75067 | http://www.rampp-team.com/lomrs.htm | December 10, 2012 | 480195
Dallas, Denton and Tarrant | Town of Flower Mound, (11-06-4512P) | The Honorable Tom Hayden, Mayor, Town of Flower Mound, 2121 Cross Timbers Road, Flower Mound, TX 75028 | Town Hall, 2121 Cross Timbers Road, Flower Mound, TX 75028 | http://www.rampp-team.com/lomrs.htm | December 10, 2012 | 480777
Denton | Town of Cross Roads, (12-06-0686P) | The Honorable Steve Smith, Mayor, Town of Cross Roads, 1401 Farm to Market Road 424, Cross Roads, TX 76227 | Town Hall, 1401 Farm to Market Road 424, Cross Roads, TX 76227 | http://www.rampp-team.com/lomrs.htm | December 10, 2012 | 481513
Denton | Unincorporated areas of Denton County, (12-06-0686P) | The Honorable Mary Horn, Denton County Judge, 110 West Hickory Street, 2nd Floor, Denton, TX 76201 | Denton County Government Center, 1505 East McKinney Street, Suite 175, Denton, TX 76209 | http://www.rampp-team.com/lomrs.htm | December 10, 2012 | 480774
Denton and Tarrant | City of Grapevine, (11-06-4512P) | The Honorable William D. Tate, Mayor, City of Grapevine, P.O. Box 95104, Grapevine ,TX 76099 | City Hall, 200 South Main Street, Grapevine, TX 76051 | http://www.rampp-team.com/lomrs.htm | December 10, 2012 | 480598
Harris | City of Pearland, (12-06-1209P) | The Honorable Tom Reid, Mayor, City of Pearland, 3519 Liberty Drive, Pearland, TX 77581 | 3519 Liberty Drive, Pearland, TX 77581 | http://www.rampp-team.com/lomrs.htm | November 8, 2012 | 480077
Travis | City of Austin, (11-06-4564P) | The Honorable Lee Leffingwell, Mayor, City of Austin, P.O. Box 1088, Austin, TX 78701 | Watershed Protection Department, 505 Barton Springs Road, 12th Floor, Austin, TX 78704 | http://www.rampp-team.com/lomrs.htm | December 3, 2012 | 480624
Travis | City of Austin, (12-06-1380P) | The Honorable Lee Leffingwell, Mayor, City of Austin, P.O. Box 1088, Austin, TX 78767 | Watershed Protection Department, 505 Barton Springs Road, 12th Floor, Austin, TX 78704 | http://www.rampp-team.com/lomrs.htm | December 10, 2012 | 480624
Wilson | Unincorporated areas of Wilson County, (12-06-2559P) | The Honorable Marvin Quinney, Wilson County Judge, 1103 4th Street, Floresville, TX 78114 | 1420 3rd Street, Floresville, TX 78114 | http://www.rampp-team.com/lomrs.htm | December 20, 2012 | 480230
Virginia:
Arlington | Unincorporated areas of Arlington County, (12-03-0954P) | The Honorable Mary Hughes Hynes, Chair, Arlington County Board, 2100 Clarendon Boulevard, Arlington, VA 22201 | 2100 Clarendon Boulevard, Arlington, VA 22201 | http://www.rampp-team.com/lomrs.htm | December 17, 2012 | 515520
Henrico | Unincorporated areas of Henrico County, (12-03-0257P) | The Honorable Frank J. Thornton, Chairman, Henrico County Board of Supervisors, P.O. Box 90775, Henrico, VA 23273 | Henrico County Courthouse, 4301 East Parham Road, Richmond, VA 23229 | http://www.rampp-team.com/lomrs.htm | December 12, 2012 | 510077

(Catalog of Federal Domestic Assistance No. 97.022, “Flood Insurance.”)

Dated: November 9, 2012.
James A. Walke,
Acting Deputy Associate Administrator for Mitigation, Department of Homeland Security, Federal Emergency Management Agency.

[FR Doc. 2012-29700 Filed 12-7-12; 8:45 am]

BILLING CODE 9110-12-P